DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 12, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: Data Security Requirements for Accessing Confidential Data.

OMB Control No.: 0579-NEW.

Summary of Collection: Title III of the Foundations for Evidence-Based Policymaking Act of 2018 (44 U.S.C. 3583; hereafter referred to as the Evidence Act) mandates that OMB establish a Standard Application Process (SAP) for requesting access to certain confidential data assets. While the adoption of the SAP is required for statistical agencies and units designated under the Confidential Information Protection and Statistical Efficiency Act of 2018 (CIPSEA), it is recognized that other agencies and organizational units within the Executive Branch may benefit from the adoption of the SAP to accept applications for access to confidential data assets. The SAP is to be a process through which agencies, the Congressional Budget Office, State, local, and Tribal governments, researchers, and other individuals, as appropriate, may apply to access confidential data assets held by a federal statistical agency or unit for the purposes of developing evidence. With the Interagency Council on Statistical Policy (ICSP) as advisors, the entities upon whom this requirement is levied are working with the SAP Project Management Office (PMO) and with OMB to implement the SAP.

The SAP Portal is to be a single web-based common application designed to collect information from individuals requesting access to confidential data assets from federal statistical agencies and units. When an application for confidential data is approved through the SAP Portal, APHIS-NAHMS will collect information to fulfill its data security requirements. This is a required step before providing the individual with access to restricted use microdata for the purpose of evidence building. APHIS-NAHMS's data security agreements and other paperwork, along with the corresponding security protocols, allow APHIS-NAHMS to maintain careful controls on confidentiality and privacy, as required by law. APHIS-NAHMS's collection of data security information will occur outside of the SAP Portal.

The following bullets outline the major components and processes in and around the SAP Portal, leading up to APHIS-NAHMS' collection of security requirements.

• SAP Policy: At the recommendation of the ICSP, the SAP Policy establishes the SAP to be implemented by statistical agencies and units and incorporates directives from the Evidence Act. The SAP Policy may be found in OMB Memorandum 23-04.

• The SAP Portal: The SAP Portal is an application interface connecting applicants seeking data with a catalog of metadata for data assets owned by the federal statistical agencies and units. The SAP Portal is not a new data repository or warehouse; confidential data assets will continue to be stored in secure data access facilities owned and hosted by the federal statistical agencies and units. The Portal provides a streamlined application process across agencies, reducing redundancies in the application process.

• Data Discovery: Individuals begin the process of accessing restricted use data by discovering confidential data assets through the SAP metadata catalog, maintained by federal statistical agencies at www.researchdatagov.org.

• SAP Portal Application Process: Individuals who have identified and wish to access confidential data assets apply through the SAP Portal. Applicants must create an account and follow all steps to complete the application. Applicants enter personal, contact, and institutional information for the research team and provide summary information about their proposed project.

• Submission for Review: Agencies approve or reject an application within a prompt timeframe. Agencies may also request applicants to revise and resubmit their application.

• Access to Confidential Data: Approved applicants are notified through the SAP Portal that their proposal has been accepted. This concludes the SAP Portal process. Agencies will contact approved applicants to initiate completion of their security documents. The completion and submission of the agency's security requirements will take place outside of the SAP Portal.

• Collection of Information for Data Security Requirements: In the instance of a positive determination for an application requesting access to an APHIS-NAHMS-owned confidential data asset, APHIS-NAHMS will contact the applicant(s) to initiate the process of collecting information to fulfill its data security requirements. This process allows APHIS-NAHMS to place the applicant(s) in a trusted access category.

Need and Use of the Information: APHIS-NAHMS is required by law to uphold rigorous controls that allow it to minimize disclosure risk and protect confidentiality. The Data Security Requirements will allow APHIS-NAHMS to provide required training to applicants on the laws and regulations protecting the confidentiality of the data it collects, policies and procedures for data access, handling, and export, and to designate the applicant agency status according to Section 3572 of U.S.C. 44.

Description of Respondents: State governments, researchers, and other individuals, as appropriate.

Number of Respondents: 10.

Frequency of Responses:

Reporting: Other (one time).

Total Burden Hours: 26.

Rachelle Ragland-Greene,
Departmental Information Collection Clearance Officer.

[FR Doc. 2025-00506 Filed 1-10-25; 8:45 am]

BILLING CODE 3410-34-P